DEPARTMENT OF TRANSPORTATION

Federal Highway Administration

[Docket No. FHWA-2019-0014]

Agency Information Collection Activities: Request for Comments for a new Information Collection Request

AGENCY: Federal Highway Administration (FHWA), DOT.

ACTION: Notice and request for comments.

SUMMARY: In compliance with the Paperwork Reduction Act (PRA) of 1995, this notice announces that FHWA will submit the collection of information described below to the Office of Management and Budget (OMB) for review and comment. The Federal Register Notice with a 60-day comment period soliciting comments on the following collection of information was published on February 7, 2019. The PRA submission describes the nature of the information collection and its expected cost and burden.

DATES: Please submit comments by May 17, 2019.

ADDRESSES: You may submit comments identified by DOT Docket ID Number FHWA 2019-0014, by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: R. Kevin. O'Grady 202-366-2030 or Arnold Feldman, 202-366-2028, Office of Real Estate Services, Federal Highway Administration, Department of Transportation, 1200 New Jersey Avenue SE, Washington, DC 20590. Office hours are from 7 a.m. to 3 p.m. ET, Monday through Friday, except Federal holidays.

SUPPLEMENTARY INFORMATION:

Title: An Analysis of the Use of Waiver Valuations by Federal, State and Local Public Agencies (LPAs): Identifying and Measuring Outcomes That Could Further Streamline Project Delivery.

Background: Waiver valuation is a key component of the “Right-of-Way Flexibilities” that were an FHWA Every Day Counts (EDC) initiative. This research will provide a detailed analysis of the current state of the waiver valuation program nationwide. It will identify issues, practices, or misinformation/misunderstanding that limit the implementation of the waiver valuation program and reduce its ability to streamline processes. The research will document the steps that are taken to improve implementation of waivers and enhance savings of administrative costs. The research also will identify additional opportunities for improving the existing processes/practices for waiver valuations that can provide significant savings in time and money and provide greater flexibility to acquiring agencies in delivery of their overall right-of-way acquisition program.

Respondents: Each of the 52 state DOT's (for the 50 states, the District of Columbia, and Puerto Rico) will be asked to respond to a written questionnaire. A subset of the state DOT's will be asked to participate in follow-up interviews.

Frequency: One-time survey.

Estimated Average Burden per Response: Approximately 2 hours per survey response and 1 hour per interview.

Estimated Total Annual Burden Hours: Approximately 120 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: April 11, 2019.
Michael Howell,
Information Collection Officer.

[FR Doc. 2019-07662 Filed 4-16-19; 8:45 am]

BILLING CODE 4910-22-P